FEDERAL ELECTION COMMISSION

[NOTICE 2017-11]

Filing Dates for the Utah Special Elections in the 3rd Congressional District

AGENCY: Federal Election Commission.

ACTION: Notice of filing dates for special election.

SUMMARY: Utah has scheduled a Special General Election on November 7, 2017, to fill the U.S. House of Representatives seat in the 3rd Congressional District being vacated by Representative Jason E. Chaffetz. A Special Primary Election, if necessary, will be held on August 15, 2017.¹

¹ Under Utah law, partisan candidates can seek nomination at their party's convention and/or gather signatures to appear on the primary election ballot.

Political committees participating in the Utah special elections are required to file pre- and post-election reports. Filing deadlines for these reports are affected by whether one or two elections are held.

FOR FURTHER INFORMATION CONTACT: Ms. Elizabeth S. Kurland, Information Division, 999 E Street NW., Washington, DC 20463; Telephone: (202) 694-1100; Toll Free (800) 424-9530.

SUPPLEMENTARY INFORMATION:

Principal Campaign Committees

Special Primary Election

All principal campaign committees of candidates only participating in the Utah Special Primary, if necessary, shall file a Pre-Primary Report on August 3, 2017. (See charts below for the closing date for the report.)

Special Primary and General Elections

If two elections are held, all principal campaign committees of candidates participating in the Utah Special Primary and Special General Elections shall file a Pre-Primary Report on August 3, 2017; a Pre-General Report on October 26, 2017; and a Post-General Report on December 7, 2017. (See charts below for the closing date for each report.)

Special General Election

All principal campaign committees of candidates only participating in the Utah Special General shall file a Pre-General Report on October 26, 2017; and a Post-General Report on December 7, 2017. (See charts below for the closing date for each report.)

Note that these reports are in addition to the campaign committee's regular quarterly filings. (See charts below for the closing date for each report.)

Unauthorized Committees (PACs and Party Committees)

Political committees not filing monthly in 2017 are subject to special election reporting if they make previously undisclosed contributions or expenditures in connection with the Utah Special Primary and Special General Elections by the close of books for the applicable report(s). (See charts below for the closing date for each report.)

Committees filing monthly that make contributions or expenditures in connection with the Utah Special Primary or Special General Elections will continue to file according to the monthly reporting schedule.

Additional disclosure information in connection with the Utah Special Elections may be found on the FEC Web site at https://www.fec.gov/help-candidates-and-committees/dates-and-deadlines/.

Disclosure of Lobbyist Bundling Activity

Principal campaign committees, party committees and Leadership PACs that are otherwise required to file reports in connection with the special elections must simultaneously file FEC Form 3L if they receive two or more bundled contributions from lobbyists/registrants or lobbyist/registrant PACs that aggregate in excess of $17,900 during the special election reporting periods. (See charts below for closing date of each period.) 11 CFR 104.22(a)(5)(v), (b).

Calendar of Reporting Dates for Utah Special Elections
Report | Close of books 1 | Reg./Cert. and overnight mailing deadline | Filing deadline
Campaign Committees Involved in Only the Special Primary (08/15/17) Must File:
Pre-Primary | 07/26/17 | 07/31/17 | 08/03/17
October Quarterly | 09/30/17 | 10/15/17 | 2 10/15/17
Participating PACS and Party Committees Not Filing Monthly Involved in Only the Special Primary (08/15/17) Must File:
Pre-Primary | 07/26/17 | 07/31/17 | 08/03/17
Mid-Year | Waived
Year-End | 12/31/17 | 01/31/18 | 01/31/18
If Two Elections Are Held, Campaign Committees Involved in Both the Special Primary (08/15/17) and Special General (11/07/17) Must File:
Pre-Primary | 07/26/17 | 07/31/17 | 08/03/17
October Quarterly | 09/30/17 | 10/15/17 | 2 10/15/17
Pre-General | 10/18/17 | 10/23/17 | 10/26/17
Post-General | 11/27/17 | 12/07/17 | 12/07/17
Year-End | 12/31/17 | 01/31/18 | 01/31/18
If Two Elections Are Held, PACS and Party Committees Not Filing Monthly Involved in Both the Special Primary (08/15/17) and Special General (11/07/17) Must File:
Pre-Primary | 07/26/17 | 07/31/17 | 08/03/17
Mid-Year | Waived
Pre-General | 10/18/17 | 10/23/17 | 10/26/17
Post-General | 11/27/17 | 12/07/17 | 12/07/17
Year-End | 12/31/17 | 01/31/18 | 01/31/18
Campaign Committees Involved in Only the Special General (11/07/17) Must File:
October Quarterly | 09/30/17 | 10/15/17 | 2 10/15/17
Pre-General | 10/18/17 | 10/23/17 | 10/26/17
Post-General | 11/27/17 | 12/07/17 | 12/07/17
Year-End | 12/31/17 | 01/31/18 | 01/31/18
PACS and Party Committees Not Filing Monthly Involved in Only the Special General (11/07/17) Must File:
Pre-General | 10/18/17 | 10/23/17 | 10/26/17
Post-General | 11/27/17 | 12/07/17 | 12/07/17
Year-End | 12/31/17 | 01/31/18 | 01/31/18
1 The reporting period always begins the day after the closing date of the last report filed. If the committee is new and has not previously filed a report, the first report must cover all activity that occurred before the committee registered as a political committee up through the close of books for the first report due.
2 Notice that this filing deadline falls on a weekend or federal holiday. Filing deadlines are not extended when they fall on nonworking days. Accordingly, reports filed by methods other than registered, certified or overnight mail must be received by close of business on the last business day before the deadline.

Dated: May 30, 2017.
On behalf of the Commission.
Steven T. Walther,
Chairman, Federal Election Commission.

[FR Doc. 2017-13569 Filed 6-28-17; 8:45 am]

BILLING CODE 6715-01-P